DEPARTMENT OF COMMERCE

National Telecommunications and Information Administration

Agency Information Collection Activities; Submission to the Office of Management and Budget (OMB) for Review and Approval; Comment Request; Digital Equity Competitive Grant Program

AGENCY: National Telecommunications and Information Administration (NTIA), Commerce.

ACTION: Notice of information collection, request for comment.

SUMMARY: The Department of Commerce, in accordance with the Paperwork Reduction Act of 1995 (PRA), invites the general public and other Federal agencies to comment on proposed and continuing information collections, which help us assess the impact of our information collection requirements and minimize the public's reporting burden. The purpose of this notice is to allow for 60 days of public comment preceding submission of the collection to OMB.

DATES: To ensure consideration, comments regarding this proposed information collection must be received on or before May 28, 2024.

ADDRESSES: Interested persons are invited to submit written comments by mail to Arica Cox, Telecommunications Policy Analyst, Grants Management and Compliance, Office of Internet Connectivity and Growth, National Telecommunications and Information Administration, U.S. Department of Commerce, 1401 Constitution Avenue NW, Room 4826, Washington, DC 20230, or by email to broadbandusa@ntia.gov. Please reference “Digital Equity Competitive Application Forms Comment” in the subject line of your comments. Do not submit Confidential Business Information or otherwise sensitive or protected information.

FOR FURTHER INFORMATION CONTACT: Requests for additional information or specific questions related to collection activities should be directed to Arica Cox, Telecommunications Policy Analyst, Grants Management and Compliance, via telephone at (202) 482-2048, or via email at acox@ntia.gov.

SUPPLEMENTARY INFORMATION:

I. Abstract

The Infrastructure Investment and Jobs Act, 2021 (Infrastructure Act or Act), which was adopted on November 15, 2021, and is also known as the Bipartisan Infrastructure Law, provided $65 billion of funding for programs to close the digital divide and ensure that all Americans have access to affordable, reliable, high-speed internet. NTIA administers multiple broadband connectivity grant programs funded by the Act, including the Digital Equity Competitive Grant Program (“Competitive Grant Program”). The Competitive Grant Program provides new federal funding for grants to eligible applicants for the purpose of supporting efforts to achieve digital equity, promoting digital inclusion activities, and spurring greater adoption of broadband among covered populations.

NTIA will use the information collected from each applicant to effectively review the proposed applications and budgets from political subdivisions, agencies, or instrumentalities of a State; Indian Tribes, Alaska Native entities, and Native Hawaiian organizations; foundations, corporations, institutions, and associations that are not-for-profit entities and not schools; community anchor institutions; local educational agencies; entities that carry out workforce development programs; and other eligible entities (or partnerships between such entities) for the Competitive Grant Program.

II. Method of Collection

NTIA will collect data through both electronic and mail submission.

III. Data

OMB Control Number: 0660-XXXX.

Form Number(s): TBD.

Type of Review: Regular submission for a new information collection.

Affected Public: Eligible entities applying for Infrastructure Act Digital Equity Competitive Grant Program funding, including political subdivisions, agencies, or instrumentalities of a State; Indian Tribes, Alaska Native entities, and Native Hawaiian organizations; foundations, corporations, institutions, and associations that are not-for-profit entities and not schools; community anchor institutions; local educational agencies; and entities that carry out workforce development programs; and other eligible entities (or partnerships between such entities).

Estimated Number of Respondents: 500.

Estimated Time per Response: 14 hours for consortia applicants; 10 hours for individual applicants.

Estimated Total Annual Burden Hours: 6,200 hours.

Estimated Total Annual Cost to Public: $284,816.00.

Respondent's Obligation: Mandatory.

Legal Authority: Section 60305 of the Infrastructure Investment and Jobs Act of 2021, Public Law 117-58, 135 Stat. 429 (November 15, 2021).

IV. Request for Comments

We are soliciting public comments to permit the Department/Bureau to: Evaluate whether the proposed information collection is necessary for the proper functions of the Department, including whether the information will have practical utility. Evaluate the accuracy of our estimate of the time and cost burden for this proposed collection, including the validity of the methodology and assumptions used. Evaluate ways to enhance the quality, utility, and clarity of the information to be collected. Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-06420 Filed 3-25-24; 8:45 am]

BILLING CODE 3510-60-P